DEPARTMENT OF DEFENSE

Department of the Army; Corps of Engineers

Intent To Prepare a Draft Environmental Impact Statement for the Louisiana Coastal Area—Plaquemines Parish, LA, Medium Diversion With Dedicated Dredging at Myrtle Grove Feasibility Study

Agency: Department of the Army, U.S. Army Corps of Engineers, DoD.

ACTION: Notice of Intent.

SUMMARY: The U.S. Army Corps of Engineers (USACE) intends to prepare a Draft Environmental Impact Statement (EIS) for the Louisiana Coastal Area (LCA)—Louisiana, Medium Diversion at Myrtle Grove with Dedicated Dredging project. The proposed restoration feature consists of a diversion, coupled with dedicated dredging, that would allow the reintroduction of freshwater, sediment and nutrients into the critically effected area of the Barataria Basin, which is located in the Ascension, Assumption, Jefferson, Lafourche, Orleans, Plaquemines, St. Charles, St. James, and St. John the Baptist parishes, Louisiana. This particular combination of restoration features would allow for rapid creation of wetland acreage and enable long-term stability. This EIS will be tiered off of the programmatic EIS for the LCA Ecosystem Restoration Study, November 2004. The record of decision for the programmatic EIS was signed on November 18, 2005.

DATES: See SUPPLEMENTARY INFORMATION section for scoping meeting dates.

For Further Information Contact: Questions concerning the draft EIS should be addressed to Patricia S. Leroux, CEMVN-PDR-RS, P.O. Box 60267, New Orleans, LA 70160-0267; telephone: (504) 862-1544; fax: (504) 862-2088; or by e-mail: patricia.s.leroux@usace.army.mil.

SUPPLEMENTARY INFORMATION: 1. Authority. This EIS will be tiered off of the programmatic EIS for the LCA Ecosystem Restoration Study, November 2004. The record of decision for the programmatic EIS was signed on November 18, 2005. The Water Resources Development Act of 2007 (WRDA 2007) authorized the LCA program. The authority includes requirements for comprehensive planning, program governance, implementation, and other program components. The LCA restoration program facilitates the implementation of critical restoration features and essential science and technology demonstration projects, increasing the beneficial use of dredged material and determining the need for modifications of selected existing projects to support coastal restoration objectives. The LCA near-term plan includes fifteen elements authorized for implementation contingent upon meeting certain reporting requirements. Specifically, Section 7006(c)(1) authorizes the Secretary of the Army to carry out the five specifically named near-term projects substantially in accordance with the restoration plan set out in the Chief's Report dated January 31, 2005. The five elements are: (1) Mississippi River Gulf Outlet Environmental Restoration, (2) Small Diversion at Hope Canal, (3) Barataria Basin Barrier Shoreline Restoration, (4) Small Bayou Lafourche Reintroduction, and (5) Medium Diversion at Myrtle Grove with Dedicated Dredging. The Congressional authorization further states that before the Secretary may begin construction of any project under this subsection, the Secretary shall submit a report documenting any modification to the project, including cost changes, to the Committee on Transportation and Infrastructure of the House of Representatives and the Committee on Environment and Public Works of the Senate.

2. Proposed Action. As recommended in the 2005 Chief's Report, the restoration feature consists of a freshwater diversion ranging from 2,500 to 15,000 cubic feet per second (cfs) coupled with dedicated dredging for the creation of up to 19,700 acres of new wetlands. The project would allow the reintroduction of freshwater, sediment and nutrients into the critically effected area of the Barataria Basin in a manner similar to the rise and fall of the river's hydrological cycle. This combination would allow for rapid creation of wetland acreage and long-term stability. It is also expected to maximize the amount of acreage created per yard of sediment placed by capitalizing on incremental accretion of diverted sediment.

3. Public Involvement. Public involvement, an essential part of the EIS process, is integral to assessing the environmental consequences of the proposed action and improving the quality of the environmental decision making. The public includes affected and interested Federal, state, and local agencies, Indian tribes, concerned citizens, stakeholders, and other interested parties. Public participation in the EIS process would be strongly encouraged, both formally and informally, to enhance the probability of a more technically accurate, economically feasible, and socially and politically acceptable EIS. Public involvement would include but is not limited to: information dissemination; identification of problems, needs and opportunities; idea generation; public education; problem solving; providing feedback on proposals; evaluation of alternatives; conflict resolution by consensus; public and scoping notices and meetings; public, stakeholder and advisory groups consultation and meetings; and making the EIS and supporting information readily available in conveniently located places, such as libraries and on the world wide web.

4. Scoping. Scoping, an early and open process for identifying the scope of significant issues related to the proposed action to be addressed in the EIS, would be used to: (a) Identify the affected public and agency concerns; (b) facilitate an efficient EIS preparation process; (c) define the issues and alternatives that would be examined in detail in the EIS; and (d) save time in the overall process by helping to ensure that the draft EIS adequately addresses relevant issues. A Scoping Meeting Notice announcing the locations, dates and times for scoping meetings will be mailed to all interested parties in October 2011.

5. Coordination. The USACE and the U.S. Fish and Wildlife Service (USFWS) have formally committed to work together to conserve, protect, and restore fish and wildlife resources while ensuring environmental sustainability of our Nation's water resources under the January 22, 2003, Partnership Agreement for Water Resources and Fish and Wildlife. The USFWS will provide a Fish and Wildlife Coordination Act Report. Coordination will be maintained with the USFWS and the National Marine Fisheries Service (NMFS) regarding threatened and endangered species under their respective jurisdictional responsibilities. Coordination will be maintained with the NMFS regarding essential fish habitat. Coordination will be maintained with the Natural Resources Conservation Service regarding prime and unique farmlands. The U.S. Department of Agriculture will be consulted regarding the “Swampbuster” provisions of the Food Security Act. Coordination will be maintained with the U.S. Environmental Protection Agency concerning compliance with Executive Order 12898, “Federal Action to Address Environmental Justice in Minority Populations and Low-Income Populations.” Coordination will be maintained with the Advisory Counsel on Historic Preservation and the State Historic Preservation Officer. The Louisiana Department of Natural Resources will be consulted regarding consistency with the Coastal Zone Management Act. The Louisiana Department of Wildlife and Fisheries will be consulted concerning potential impacts to Natural and Scenic Streams.

6. Availability of Draft EIS. The earliest that the draft EIS would be available for public review would be in October of 2012. The draft EIS or a notice of availability will be distributed to affected Federal, state, and local agencies, Indian tribes, and other interested parties.

Edward R. Fleming,
Colonel, U.S. Army, District Commander.

[FR Doc. 2010-25987 Filed 10-14-10; 8:45 am]

BILLING CODE 3720-58-P